DEPARTMENT OF LABOR

Office of the Secretary

Submission for OMB Review; Comment Request

April 19, 2001.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation for BLS, ESA, and PWBA contact Marlene Howze ((202) 219-8904 or by email to Howze-Marlene@dol.gov). To obtain documentation for ETA, MSHA, OSHA, and VETS contact Darrin King ((202) 693-4129 or by E-Mail to King-Darrin@dol.gov).

Comments should be sent to Office of Information and Regulatory Affairs, Attn: OMB Desk Officer for BLS, DM, ESA, ETA, MSHA, OSHA, PWBA, or VETS, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and minimize the burden of the collection of information on those who are to respond, including through the use of appropriate automated, electronic, mechanical, or other technological collection techniques or other forms of information technology, e.g., permitting electronic submission of responses.

Type of Review: Extension of a currently approved collection.

Agency: Employment Standards Administration (ESA).

Title: Vehicle Mechanical Inspection Report for Transportation Subject to DOT Requirements; Subject to DOL Safety Standards.

OMB Number: 1215-0036.

Affected Public: Business or other for-profit; and farms.

Frequency: On Occasion.

Annual Respondents: 1,200.

Annual Responses: 3,600.

Estimated Time Per Record Keeping: 5 minutes.

Total Burden Hours: 300.

Total Annualized Capital/Startup Costs: $0.

Total Annual Costs (operating/maintaining systems or purchasing services): $166.

Description: Section 401 of the Migrant and Seasonal Agricultural Worker Protection Act (MSPA) requires that Farm Labor Contractors (FLCs), Agricultural Employers (AGERs) or Agricultural Associations (AGASs) which use, or cause to be used, any vehicle to transport a migrant or seasonal agricultural worker ensure that such vehicle conforms to vehicle safety standards prescribed by the Secretary of Labor under MSPA and with other applicable Federal and State safety standards.

Sections 500.100-102 and 500.104 of Regulations, 29 CFR Part 500, Migrant and Seasonal Agricultural Worker Protection Act (MSPA), set forth the vehicle safety standards which must be met to be able to transport migrant and seasonal agricultural workers.

Type of Review: Extension of a currently approved collection.

Agency: Employment Standards Administration (ESA).

Title: Maintenance of Receipt for Benefits Paid by a Coal Mine Operator.

OMB Number: 1215-0124.

Affected Public: Business or other for-profit; and State, Local, or Tribal Government.

Frequency: On Occasion.

Annual Respondents: 150.

Annual Responses: 150.

Estimated Time Per Record-keeping: 1 hour.

Total Burden Hours: 1.

Total Annualized Capital/Startup Costs: $0.

Total Annual Costs (operating/maintaining systems or purchasing services): $0.

Description: 30 U.S.C. 933(a) requires coal mine operators to secure the payment of benefits for which they may become liable by:

a. Qualifying as a self insurer in accordance with regulations prescribed by the Secretary; or

b. Insuring the payment of such benefits with any stock or mutual company or association, or with any other person or fund, including any state fund, while such company, association, person or fund is authorized under the laws of any state to insure workers' compensation.

20 CFR 725.531 requires self insured operators or insurance carriers to retain receipts for black lung benefit payments made for five years after the date on which the receipt was executed. 30 USC 933(d) includes a civil penalty of not more than $1,000, which may be assessed to coal mine operators by the Secretary for each day during which the operator fails to secure the payment of benefits.

Type of Review: Extension of a currently approved collection.

Agency: Employment Standards Administration (ESA).

Title: Claim for Reimbursement: Assisted Reemployment.

OMB Number: 1215-0178.

Affected Public: Business or other for-profit; Not-for-profit institutions; Federal Government; and State, Local, or Tribal Government.

Frequency: Quarterly.

Annual Respondents: 20.

Annual Responses: 80.

Estimated Time per Record keeper: 30 minutes.

Total Burden Hours: 40.

Total Annualized Capital/Startup Costs: $0.

Total Annual Costs (operating/maintaining systems or purchasing services): $30.

Description: To aid in the employment of Federal employees with disabilities related to an injury on the job, employers submit the form CA-2231 to claim reimbursement for wages paid under the assisted re-employment project. The collection of this information is authorized under section 8104(a) of the Federal Employees Compensation Act (FECA) as well as Public Laws 103-333 and 106-113.

Ira L. Mills,
Departmental Clearance Officer.

[FR Doc. 01-10828 Filed 4-30-01; 8:45 am]

BILLING CODE 4510-27-M